DEPARTMENT OF THE INTERIOR

Bureau of Land Management

[LLCAD06000.L51010000.ER0000.LVRWB19B6970.19X (MO #4500143795)]

Notice of Intent To Amend the California Desert Conservation Area Plan and Prepare an Associated Environmental Assessment for the Oberon Solar Project, Riverside County, CA

AGENCY: Bureau of Land Management, Interior.

ACTION: Notice of intent.

SUMMARY: In accordance with the National Environmental Policy Act (NEPA) of 1969, as amended, and the Federal Land Policy and Management Act (FLPMA) of 1976, as amended, the Bureau of Land Management (BLM) Palm Springs-South Coast Field Office is proposing to amend the 1980 California Desert Conservation Area (CDCA) Plan, as amended, and prepare the associated environmental analysis for the Oberon Solar Project (Project). By this notice, the BLM is announcing the beginning of the scoping process to solicit public comments on issues and identify planning criteria.

DATES: This notice initiates the public scoping process for the CDCA Plan amendment with associated environmental analysis. Comments on issues may be submitted in writing until April 19, 2021. The date(s) and location(s) of any scoping meetings will be announced at least 15 days in advance through local news media, newspapers, and the BLM ePlanning website at: https://go.usa.gov/xfdH5.

To be included in the analysis, all comments must be received prior to the close of the 30-day scoping period. Additional opportunities for public participation will be available upon publication of the draft plan amendment environmental analysis document.

ADDRESSES: You may submit comments on issues and planning criteria by any of the following methods:

• Email: BLM_CA_PS_OberonSolar@blm.gov.

• Mail: ATTN: Brandon Anderson, BLM, 22835 Calle San Juan De Los Lagos, Moreno Valley, CA 92553.

• Online via ePlanning: https://go.usa.gov/xfdH5.

Documents pertinent to this project may be examined during regular business hours upon request using email: BLM_CA_PS_OberonSolar@blm.gov.

FOR FURTHER INFORMATION CONTACT: Brandon Anderson, Assistant District Manager, telephone (951) 697-5215; address Bureau of Land Management, 22835 Calle San Juan De Los Lagos, Moreno Valley, CA 92553; email BLM_CA_PS_OberonSolar@blm.gov. Documents relevant to this planning process can be found at https://go.usa.gov/xfdH5. Contact the Bureau of Land Management to arrange for other means of viewing documents. Persons who use a telecommunications device for the deaf (TDD) may call the Federal Relay Service (FRS) at 1(800) 877-8339 to contact the above individual during normal business hours. The FRS is available 24 hours a day, 7 days a week, to leave a message or question with the above individual. You will receive a reply during normal business hours.

SUPPLEMENTARY INFORMATION: The applicant, IP Land Holding, LLC, a wholly owned subsidiary of Intersect Power, has requested a right-of-way (ROW) authorization to construct, operate, maintain, and decommission a 500-megawatt (MW) alternating current solar photovoltaic energy-generating facility along with the necessary ancillary facilities on public lands managed by the BLM. The project is proposed within a 4,700-acre area of public lands managed by the BLM just north and east of Desert Center, California. The Project is within a development focus area, as identified through the Desert Renewable Energy Conservation Plan (DRECP) amendment to the CDCA Plan.

The DRECP contains Conservation and Management Actions (CMAs) that are intended to avoid and/or minimize impacts to numerous resources within the plan area. However, application of the relevant CMAs to the proposed project would preclude the ability to construct and operate the 500-MW project in an area identified as suitable for renewable energy development. As such, the proposed Project would require a plan amendment to allow solar development within the application area.

This notice informs the public that the BLM intends to prepare a draft CDCA Plan amendment and associated environmental analysis document for the Oberon Solar Project. It also announces the beginning of the scoping process for this effort and seeks public input on environmental issues and potential planning criteria relevant to the project and any potential plan amendments. The public-scoping process may guide the planning process and determine relevant issues that will influence the scope of the environmental analysis, including alternatives and mitigation measures.

Preliminary issues for the Project have been identified by the BLM, other Federal agencies, the State, local agencies, and other stakeholders. Issues include air quality and greenhouse gas emissions, special status wildlife and vegetation species, cultural resources, geology and soils, hazards and hazardous materials, hydrology and water quality, noise, recreation, traffic, visual resources, and cumulative effects. Written comments may be submitted via one of the methods listed in the ADDRESSES section above. Input must be received by the close of the 30-day public-scoping period.

If a plan amendment is necessary, the BLM will integrate the land use planning process with the NEPA process for the project. A preliminary list of the potential planning criteria that will be used to help guide and define the scope of the plan amendment includes:

1. Any plan amendments will be completed in compliance with FLPMA, NEPA, and all other relevant Federal laws, executive orders, and BLM polices.

2. Existing valid plan decisions will not change, and any new plan decisions will not conflict with existing plan decisions.

3. Any plan amendments will recognize valid existing rights.

With respect to the potential land use plan amendment, the BLM will evaluate identified issues to be addressed in the plan amendment, and will place them into one of three categories:

1. Issues to be resolved in the plan amendment.

2. Issues to be resolved through policy or administrative action.

3. Issues beyond the scope of this plan amendment.

The BLM will provide an explanation in the environmental analysis document as to why an issue was placed in category two or three. The public is also encouraged to help identify any management questions and concerns that should be addressed in the environmental analysis and potential land-use plan amendments. The BLM will work collaboratively with interested parties to identify the management decisions that are best suited to local, regional, and national needs and concerns.

The BLM will utilize and coordinate the NEPA scoping process to help fulfill the public involvement process under the National Historic Preservation Act (54 U.S.C. 306108) as provided in 36 CFR 800.2(d)(3). Information about historic and cultural resources within the area that may be potentially affected by the proposed action will assist the BLM in identifying and evaluating impacts to such resources. The BLM will consult with American Indian tribes on a government-to-government basis in accordance with Executive Order 13175 and other policies. Tribal concerns, including impacts on American Indian trust assets and potential impacts to cultural resources, will be given due consideration. Federal, State, and local agencies, along with tribes, and other stakeholders that may be interested in or affected by the proposed action that the BLM is evaluating, are invited to participate in the scoping process and, if eligible, may request or be requested by the BLM to participate in the development of the environmental analysis as a cooperating agency.

Before including your address, phone number, email address, or other personal identifying information (PII) in your comment, you should be aware that your entire comment—including your PII—may be made publicly available at any time. While you can ask us in your comment to withhold your PII from public review, we cannot guarantee that we will be able to do so.

Danielle Chi,
BLM California Deputy State Director, Natural Resources.

[FR Doc. 2021-05590 Filed 3-17-21; 8:45 am]

BILLING CODE 4310-40-P